ENVIRONMENTAL PROTECTION AGENCY

[OW-2003-0005; FRL-7477-3]

Agency Information Collection Activities; Submission of EPA ICR No. 1838.02 (OMB No. 2040-0213) to OMB for Review and Approval; Comment Request

AGENCY: Environmental Protection Agency (EPA).

ACTION: Notice.

SUMMARY: In compliance with the Paperwork Reduction Act (PRA) (44 U.S.C. 3501 et seq.), this document announces that the following Information Collection Request (ICR) has been forwarded to the Office of Management and Budget (OMB) for review and approval: Industry Detailed Questionnaire: Phase III Cooling Water Intake Structures (OMB Control No. 2040-0213, EPA ICR No. 1838.02) The ICR describes the nature of the information collection and its estimated burden and cost.

DATES: Additional comments may be submitted on or before May 5, 2003.

ADDRESSES: Follow the detailed instructions in SUPPLEMENTARY INFORMATION

FOR FURTHER INFORMATION CONTACT: Jennifer Chan, Office of Water, Office of Science and Technology, mailcode 4303T, Environmental Protection Agency, 1200 Pennsylvania Ave., NW., Washington, DC 20460; by phone at (202) 566-1078, by e-mail at chan.jennifer@epa.gov.

SUPPLEMENTARY INFORMATION: EPA has submitted the following ICR to OMB for review and approval according to the procedures prescribed in 5 CFR 1320.12. On December 12, 2002 (67 FR 76400), EPA sought comments on this ICR pursuant to 5 CFR 1320.8(d). EPA received one comment and has adopted many of the suggestions made by the commentor.

EPA has established a public docket for this ICR under Docket ID No. OW-2003-0005, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice, and according to the following detailed instructions: (1) Submit your comments to EPA online using EDOCKET (our preferred method), by e-mail to OW-Docket@epa.gov, or by mail to: EPA Docket Center, Environmental Protection Agency, Mailcode: 4101T, 1200 Pennsylvania Ave., NW., Washington, DC 20460, and (2) Mail your comments to OMB at: Office of Information and Regulatory Affairs, Office of Management and Budget (OMB), Attention: Desk Officer for EPA, 725 17th Street, NW., Washington, DC 20503.

EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Industry Detailed Questionnaire: Phase III Cooling Water Intake Structures (OMB Control No. 2040-0213, EPA ICR Number 1838.02). This is a request to renew an existing approved collection that is scheduled to expire on March 31, 2003. Note that the Agency is substituting the term “Phase III” for “Phase II”, in the title of the original ICR, to correspond to the revised structure of the rulemaking. Under the PRA regulations, the Agency may continue to conduct or sponsor the collection of information while this submission is pending at OMB.

Abstract: In accordance with the PRA, this notice announces the submission of a revised ICR from the EPA to the OMB for review and approval. EPA requests approval to contact 80 respondents from the original survey for clarifications of their responses and to request their 316(b) environmental studies. EPA also requests approval to conduct a survey of two industries (offshore and coastal oil and gas extraction facilities (OCOGEFs) and seafood processing vessels) potentially subject to Section 316(b) of the Clean Water Act (CWA), 33 U.S.C. 1326(b). EPA was made aware of these two industries from public comments received on the proposed Phase I rule (65 FR 49060). These industries were not surveyed in the original information collection. For this request, EPA has revised the original ICR questionnaires to customize them for the OCOGEFs and Seafood Processing Vessels. Responses to this Industry Detailed Questionnaire will help EPA better characterize the design, location, construction, and operation of cooling water intake structures at industrial facilities throughout the U.S.

Section 316(b) provides that any standard established pursuant to Sections 301 or 306 of the CWA and applicable to a point source shall require that the location, design, construction, and capacity of cooling water intake structures reflect the best technology available for minimizing adverse environmental impact. EPA is developing regulations implementing Section 316(b) of the CWA, 33 U.S.C. 1326(b) pursuant to a Consent Decree in Riverkeeper v. Whitman [93 civ.0314 (AGS)]. The baseline data will help EPA frame regulatory options and define further research needs regarding the relationship of cooling water intake structures, intake technologies, and environmental impacts. The economic and financial information will help EPA to assess facility-level and firm-level impacts of complying with the proposed regulations and also enable EPA to carry out required economic analyses, including Regulatory Impact Analysis (RIA), cost/benefit analysis, and small business analysis. In order to fully evaluate costs associated with a proposed Section 316(b) regulations, EPA will consider the costs associated with performing Section 316(b) demonstration studies, additions and modifications to cooling water intake structures and equipment, and operating and monitoring costs associated with the regulations.

EPA has the authority to collect this information under Section 308 of the CWA (33 U.S.C. 1318). Accordingly, responses to the questionnaires (Industry Technical Questionnaire and Industry Economic Questionnaire) would be mandatory. In accordance with 40 CFR part 2, subpart B, Section 2.203, the survey will inform respondents of their right to claim information as confidential. The survey provides instructions on the procedures for making Confidential Business Information (CBI) claims, and the respondents also will be informed of the terms and rules governing protection of CBI obtained under the CWA.

An agency may not conduct or sponsor, and a person is not required to respond to, a collection of information unless it displays a currently valid OMB control number. The OMB control numbers for EPA's regulations are listed in 40 CFR part 9 and 48 CFR chapter 15, and are identified on the form and/or instrument, if applicable.

Burden Statement: The annual public reporting and recordkeeping burden for this collection of information is estimated to average 1 hour per response for the follow-up effort, 8 hours per response for the Industry Technical Questionnaire, and 50 hours per response for the Industry Economic Questionnaire. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Offshore and Coastal Oil and Gas Extraction Facilities, Seafood Processing Vessels, and 80 respondents surveyed in the original ICR.

Estimated Number of Respondents: 281.

Frequency of Response: One time.

Estimated Total Annual Hour Burden: 7,021 hours.

Estimated Total Annual Cost: $453,648, includes $1,123 annualized O&M costs.

Changes in the Estimates: There is a decrease of 121,715 hours in the total estimated burden currently identified in the OMB Inventory of Approved ICR Burdens. This decrease is due to less number of respondents in this ICR.

Dated: March 27, 2003.
Oscar Morales,
Director, Collection Strategies Division.

[FR Doc. 03-8257 Filed 4-3-03; 8:45 am]

BILLING CODE 6560-50-P